GOVERNMENT ACCOUNTABILITY OFFICE

Appointments to the Citizens' Health Care Working Group

ACTION: Notice of application period.

SUMMARY: The Comptroller General of the United States will appoint 14 individuals, including a Chairperson, to serve as members of the Citizens' Health Care Working Group as required by the Medicare Prescription Drug, Improvement, and Modernization Act of 2003 (MMA) (Pub. L. 108-173). The Secretary of Health and Human Services also serves as a member of the Working Group and is required by the MMA to establish the Working Group. This group will help lead a nationwide public discussion and debate on ways to improve the health care system and provide every American with the ability to obtain quality and affordable health care coverage. The Working Group will make recommendations to the President and the Congress.

Individuals interested in serving for the two-year term may apply online by visiting

http://citizenshealthcarewg.gao.gov. Individuals unable to apply online may call 866-324-9219 (toll-free) to request an application form. The closing date for accepting applications will be January 14, 2005. The Comptroller General will announce his appointments by late February 2005.

Closing Date: Applications must be postmarked by January 14, 2005.

FOR FURTHER INFORMATION CONTACT: GAO 866-324-9219 (toll-free).

(Sec. 1014, Pub. L. 108-173, 117 Stat. 2066, 2441)

David M. Walker,
Comptroller General of the United States.

[FR Doc. 04-27482 Filed 12-15-04; 8:45 am]

BILLING CODE 1610-02-M